DEPARTMENT OF AGRICULTURE

Agricultural Marketing Service

[FV-99-330]

United States Standards for Grades of Frozen Field Peas and Frozen Black-Eye Peas

AGENCY: Agricultural Marketing Service, USDA.

ACTION: Notice.

SUMMARY: The Agricultural Marketing Service (AMS) of the Department of Agriculture (USDA) is soliciting comments on its proposal to revise the United States Standards for Grades of Frozen Field Peas and Frozen Black-Eye Peas. Specifically, USDA is proposing to provide for the “individual attributes” procedure for product grading with sample sizes, acceptable quality levels (AQL's), tolerances and acceptance numbers (number of allowable defects) to be included in the standards; and provide a uniform format consistent with other recently revised U.S. grade standards by adopting definitions for terms and replacing textual descriptions with easy-to-read tables. These changes have been requested by the industry in order to improve use of the standards.

DATES: Written comments may be submitted on or before April 17, 2000.

ADDRESSES: Written comments may be submitted to Randle A. Macon, Processed Products Branch, Fruit and Vegetable Programs, STOP 0247, P.O. Box 96456, Washington, DC 20090-6456; faxed to (202) 690-1527; or e-mailed to Randle. Macon@usda.gov. Comments should reference the date and page number of this issue of the Federal Register. All comments received will be made available for public inspection at the above address during regular business hours (8:00 a.m. to 4:30 p.m.). And on the Internet.

The current United States Standards for Grades of Frozen Field Peas and Frozen Black-Eye Peas, along with the proposed changes, are available either through the above address or by accessing AMS's website on the Internet at www.ams.usda.gov/standards/. The United States Standards for Grades of Frozen Field Peas and Frozen Black-Eye Peas do not appear in the Code of Federal Regulations.

FOR FURTHER INFORMATION CONTACT: Randle A. Macon at (202) 720-5021 or e-mailed to Randle. Macon@usda.gov.

SUPPLEMENTARY INFORMATION: Section 203(c) of the Agricultural Marketing Act of 1946, as amended, directs and authorizes the Secretary of Agriculture “to develop and improve standards of quality, condition, quantity, grade and packaging and recommend and demonstrate such standards to encourage uniformity and consistency in commercial practices. . . .” AMS is committed to carrying out this authority in a manner that facilitates the marketing of agricultural commodities and makes copies of official standards available upon request.

AMS is proposing to change the United States Standards for Grades of Frozen Field Peas & Frozen Black-Eye Peas using the procedures that appear in Part 36 of Title 7 of the Code of Federal Regulations (7 CFR part 36). The grade standards were last revised in September 1996.

The Western Technical Advisory Committee of the American Frozen Food Institute petitioned the USDA to revise the U.S. grade standards for frozen field peas and frozen black-eye peas in 1997. It was requested that the “individual attributes” system of grading, be incorporated into the revision. “Individual attributes” provide statistically derived acceptable quality levels (AQL's) based on the tolerances in the grade standards.

The current standards are based on an older “attributes” model. It is proposed that the standards be modified to convert them to the improved “individual attributes” grading system, similar to the U.S. grade standards for canned green and wax beans (58 FR4295; January 14, 1993). This change would bring the standards in line with current marketing practices and innovations in processing techniques. In addition to these changes, the revision would modify the standards to present them in a simplified easy-to-use format. Consistent with recent revisions of other U.S. grade standards, definitions of terms and easy-to-read tables would replace the textual descriptions. These changes are intended to facilitate better understanding and more uniform application of the grade standards.

AMS is publishing this notice with a 60 day comment period which will provide a sufficient amount of time for interested persons to comment on the revision of the standard.

Authority: 7 U.S.C. 1621-1627

Dated: February 9, 2000.
Robert C. Keeney,
Deputy Administrator, Fruit and Vegetable Programs.

[FR Doc. 00-3423 Filed 2-14-00; 8:45 am]

BILLING CODE 3410-02-P